ENVIRONMENTAL PROTECTION AGENCY

[EPA-HQ-OCFO-2024-0107; FRL-12270-01-OMS]

Agency Information Collection Activities; Submission to the Office of Management and Budget for Review and Approval; Comment Request; General Performance Reporting for Assistance Programs (New)

AGENCY: Environmental Protection Agency (EPA).

ACTION: Notice.

SUMMARY: The Environmental Protection Agency (EPA) has submitted an information collection request (ICR), General Performance Reporting for Assistance Programs (EPA ICR Number 2802.01, OMB Control Number 2090-NEW) to the Office of Management and Budget (OMB) for review and approval in accordance with the Paperwork Reduction Act. This is a request for approval of a new collection. Public comments were previously requested via the Federal Register on March 7, 2024 during a 60-day comment period. This notice allows for an additional 30 days for public comments.

DATES: Comments may be submitted on or before October 21, 2024.

ADDRESSES: Submit your comments, referencing Docket ID Number EPA-HQ-OCFO-2024-0107, to EPA online using www.regulations.gov (our preferred method), by email to Docket_OMS@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor, and a person is not required to respond to, a collection of information unless it displays a currently valid OMB control number.

Public comments were previously requested via the Federal Register on March 7, 2024 during a 60-day comment period (89 FR 16558). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The U.S. Environmental Protection Agency (EPA) awards billions of dollars in funding for grants and other assistance agreements, with recipients ranging from small non-profit organizations to large state governments. With this Information Collection Request (ICR), EPA seeks authorization to collect information to track progress by the Agency's assistance programs. Collection of this information from award recipients enables EPA to assess and manage its assistance programs, which in turn ensures responsible stewardship of public funds; rigorous evidence-based learning and improvement; and transparent accountability to the American public. The information requested under this ICR will be collected via performance report forms, including work plans, interim reports, and final reports.

Form Numbers: None.

Respondents/affected entities: Recipients of financial assistance awards from EPA.

Respondent's obligation to respond: Mandatory for grant recipients as per reporting requirements included in EPA regulations 2 CFR parts 200 and 1500.

Estimated number of respondents: 3,145 (per year).

Frequency of response: Varies.

Total estimated burden: 84,048 hours (per year). Burden is defined at 5 CFR 1320.03(b).

Total estimated cost: $6,820,967 (per year), there are no annualized capital or operation & maintenance costs.

Changes in the Estimates: This is a new collection, and so does not involve any program changes or burden adjustments.

Courtney Kerwin,
Director, Information Engagement Division.

[FR Doc. 2024-21462 Filed 9-18-24; 8:45 am]

BILLING CODE 6560-50-P